DEPARTMENT OF THE INTERIOR

National Park Service

Notice of Intent to Repatriate Cultural Items: San Diego Museum of Man, San Diego, CA

AGENCY: National Park Service, Interior.

ACTION: Notice.

Notice is here given in accordance with the Native American Graves Protection and Repatriation Act (NAGPRA), 25 U.S.C. 3005, of the intent to repatriate cultural items in the possession of the San Diego Museum of Man, San Diego, CA, that meet the definition of “unassociated funerary objects” or “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The cultural items are 26 unassociated funerary objects and 2 objects of cultural patrimony.

In 1959, cultural items were removed by M.J. Rogers from an abandoned Papago Village approximately four miles west of Covered Wells, Pima County, AZ, on the south side of Highway 86. The 26 unassociated funerary objects are 24 pottery sherds, 1 cockle shell fragment, and 1 metavolcanic stone (possibly rhyolite) scraper.

The 24 pottery sherds are reasonably believed to have been placed as part of a pottery sacrifice on graves covered with boulders. Based on consultation with tribal representative of the Tohono O'odham Nation of Arizona, the cockle shell frament and metavolcanic stone scraper are also reasonably believed to be unassociated funerary objects.

In 1976, one medicine bundle container (dated to circa 1930) was acquired from Mrs. Martinez of Havanna Naka (Crow Hang) Village on what was called the Papago Reservation. The medicine bundle belonged to Mrs. Martinez' husband, a local medicine man.

In 1986, one Wihosa mask was acquired from Sylvester Matthias, a Pima, from Komatke, AZ, who inherited it as the last person in the (hereditary) line. The cultural item is used in the Navichu ceremony.

Based on consultation with a tribal representative of the Tohono O'odham Nation of Arizona, the officials of the San Diegeo Museum of Man have reasonably determined that the two cultural items are objects of cultural patrimony used in important ceremonies of the O'odham people and could not have been alienated by a single individual.

Recorded information from museum records about the unassociated funerary items and items of cultural patrimony states that all the items were located on either traditional Papago (Tohono O'odham) or Pima (Akimel O'odham) land. Descendants of the O'odham people are members of the Tohono O'odham Nation of Arizona.

Consultation with a tribal representative of the Gila River Indian Community of the Gila River Indian Reservation, Arizona, also determined that the cultural items, whether traditional Pima or Papago, should be repatriated to the Tohono O'odham Nation of Arizona based on the location of where they were found.

Officials of the San Diego Museum of Man have determined that, pursuant to 25 U.S.C. 3001 (3)(B), the 26 cultural items described above are reasonably believed to have been placed with or near individual human remains at the time of death or later as part of the death rite or ceremony and are believed, by a preponderance of the evidence, to have been removed from a specific burial site of a Native American individual. Officials of the San Diego Museum of Man also have determined that, pursuant to 25 U.S.C. 3001 (3)(D), the two cultural items described above have ongoing historical, traditional, or cultural importance central to the Native American group or culture itself, rather than property owned by an individual. Lastly, officials of the San Diego Museum of Man have determined that, pursuant to 25 U.S.C. 3001 (2), there is a relationship of shared group identity that can be reasonably traced between the unassociated funerary objects and objects of cultural patrimony and the Tohono O'odham Nation of Arizona.

Representatives of any other Indian tribe that believes itself to be culturally affiliated with the unassociated funerary objects and objects of cultural patrimony should contact Philip Hoog, NAGPRA Coordinator, San Diego Museum of Man, 1350 El Prado, Balboa Park, San Diego, CA 92101, telephone (619) 239-2001, before November 10, 2008. Repatriation of the unassociated funerary objects and objects of cultural patrimony to the Tohono O'odham Nation of Arizona may proceed after that date if no additional claimants come forward.

The San Diego Museum of Man is responsible for notifying the Gila River Indian Community of the Gila River Indian Reservation, Arizona and Tohono O'odham Nation of Arizona that this notice has been published.

Dated: September 10, 2008
Sherry Hutt,
Manager, National NAGPRA Program.

[FR Doc. E8-23953 Filed 10-8-08; 8:45 am]

BILLING CODE 4312-50-S